DEPARTMENT OF TRANSPORTATION

Federal Aviation Administration

14 CFR Part 39

[Docket No. FAA-2004-19809; Directorate Identifier 2003-NM-284-AD; Amendment 39-14155; AD 2005-13-18]

RIN 2120-AA64

Airworthiness Directives; McDonnell Douglas Model DC-9-10 Series Airplanes; Model DC-9-20 Series Airplanes; Model DC-9-30 Series Airplanes; Model DC-9-40 Series Airplanes; Model DC-9-50 Series Airplanes; Model DC-9-81 (MD-81), DC-9-82 (MD-82), DC-9-83 (MD-83), and DC-9-87 (MD-87) Airplanes; and Model MD-88 Airplanes

AGENCY: Federal Aviation Administration (FAA), Department of Transportation (DOT).

ACTION: Final rule.

SUMMARY: The FAA is superseding an existing airworthiness directive (AD), which applies to certain SAFT America Inc. part number (P/N) 021929-000 (McDonnell Douglas P/N 43B034LB02) and P/N 021904-000 (McDonnell Douglas P/N 43B034LB03) nickel cadmium batteries. That AD currently requires replacing all battery terminal screws, verifying that the battery contains design specification cells, and replacing the cells if the battery contains non-design specification cells. This new AD requires an inspection for certain nickel cadmium batteries and, if necessary, replacing battery terminal screws with new hex head bolts and adding shims. This AD is prompted by a report of battery screws shearing off while under normal torque loads. We are issuing this AD to prevent internal shorting, arcing, and loss of emergency battery power due to failed battery screws, which could result in loss of emergency power to electrical flight components or other emergency power systems required in the event of loss of the aircraft primary power source.

DATES: This AD becomes effective August 1, 2005.

The incorporation by reference of a certain publication listed in the AD is approved by the Director of the Federal Register as of August 1, 2005.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19809; the directorate identifier for this docket is 2003-NM-284-AD.

FOR FURTHER INFORMATION CONTACT: Daniel Bui, Aerospace Engineer, Systems and Equipment Branch, ANM-130L, FAA, Los Angeles Aircraft Certification Office, 3960 Paramount Boulevard, Lakewood, California 90712-4137; telephone (562) 627-5339; fax (562) 627-5210.

SUPPLEMENTARY INFORMATION: The FAA proposed to amend part 39 of the Federal Aviation Regulations (14 CFR part 39) with an AD to supersede AD 98-20-17, amendment 39-10784 (63 FR 50979, September 24, 1998). The existing AD applies to Part Number (P/N) 021929-000 (McDonnell Douglas P/N 43BO34LB02) and P/N 021904-000 (McDonnell Douglas P/N 43BO34LB03) nickel cadmium batteries manufactured prior to December 1997 that are installed on, but not limited to, McDonnell Douglas DC-9 and MD-80 aircraft, all serial numbers. The proposed AD, which is applicable to certain McDonnell Douglas transport category airplanes, was published in the Federal Register on December 14, 2004 (69 FR 74461), to require replacing all battery terminal screws, verifying that the battery contains design specification cells, and replacing the cells if the battery contains non-design specification cells. The proposed AD also proposed to require an inspection for certain nickel cadmium batteries and, if necessary, replacing battery terminal screws with new hex head bolts and adding shims.

Comments

We provided the public the opportunity to participate in the development of this AD. We have considered the comments that have been submitted on the proposed AD.

Request for a Better Identification of the Modification

One commenter requests that the proposed AD provide a better way of identifying the modification. The commenter states that identifying the modification with a sticker, as specified in SAFT Mandatory Service Bulletin 01-02, Revision 2, dated August 11, 2003, makes it difficult for airlines to track compliance. The commenter notes that stickers have been known to come unglued in the presence of water, acid, and heat, all of which exist around battery locations. If a sticker becomes unglued and lost, this gives the appearance of non-compliance to the AD. The commenter suggests requiring a P/N change on the data plate by simply adding a letter to the existing P/N.

We do not agree that a P/N change on the data plate is necessary in this case. Although we acknowledge that stickers may come unglued, the modification sticker is merely a secondary indication of compliance. We have determined that, for the purposes of this AD, installation of a compliance sticker, as specified in SAFT Mandatory Service Bulletin 01-02, Revision 2, dated August 11, 2003 (referenced as an additional source of service information in Boeing Alert Service Bulletin DC9-24A195, dated December 4, 2003), is not necessary. We find that recording the installation of the modified battery in the airplane maintenance records, as required by section 91.417 of the Federal Aviation Regulations, provides an adequate means for operators to track AD compliance. Therefore, we have revised paragraph (f)(2)(ii) of this AD to specify that installing a sticker is not required.

Request to Correct Reference to Certain P/Ns

One commenter requests that two P/Ns be corrected. The commenter explains that certain P/Ns, as identified in the proposed AD, contain the letter “O” instead of the number “0.” The P/Ns should be 43B034LB02 and 43B034LB03.

We agree and have revised the AD accordingly.

Editorial Changes

We have added a new Note 2 to the AD to reiterate, as specified in the preamble of the proposed AD, that Boeing Alert Service Bulletin DC9-24A195, dated December 4, 2003, refers to SAFT Service Bulletin 01-02, Revision 2, dated August 11, 2003, as an additional source of service information for accomplishing the modification.

Conclusion

We have carefully reviewed the available data, including the comments that have been submitted, and determined that air safety and the public interest require adopting the AD with the changes described previously. We have determined that these changes will neither increase the economic burden on any operator nor increase the scope of the AD.

Costs of Compliance

There are about 1,828 airplanes worldwide of the affected design. This AD will affect about 1,087 airplanes of U.S. registry.

The required inspection to determine if certain SAFT batteries are installed will take about 1 work hour per airplane, at an average labor rate of $65 per work hour. Based on these figures, the estimated cost of the actions specified in this AD for U.S. operators is $70,655, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10784 (63 FR 50979, September 24, 1998) and by adding the following new airworthiness directive (AD):

2005-13-18 McDonnell Douglas: Amendment 39-14155. Docket No. FAA-2004-19809; Directorate Identifier 2003-NM-284-AD.

Effective Date

(a) This AD becomes effective August 1, 2005.

Affected ADs

(b) This AD supersedes AD 98-20-17, amendment 39-10784 (63 FR 50979, September 24, 1998).

Applicability

(c) This AD applies to McDonnell Douglas Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), and DC-9-87 (MD-87) airplanes; and Model MD-88 airplanes; equipped with SAFT America Inc. nickel cadmium batteries having part number (P/N) 021929-000 or P/N 021904-000 that were manufactured before May 2003; certificated in any category.

Unsafe Condition

(d) This AD was prompted by a report of battery screws shearing off while under normal torque loads. We are issuing this AD to prevent internal shorting, arcing, and loss of emergency battery power due to failed battery screws, which could result in loss of emergency power to electrical flight components or other emergency power systems required in the event of loss of the aircraft primary power source.

Compliance

(e) You are responsible for having the actions required by this AD performed within the compliance times specified, unless the actions have already been done.

Inspection for SAFT Nickel Cadmium Battery

(f) Within 18 months after the effective date of this AD, perform a general visual inspection to determine if a nickel cadmium battery having P/N 021904-000 (Type 43B034LB03) or P/N 021929-000 (Type 43B034LB02) is installed, in accordance with Boeing Alert Service Bulletin (ASB) DC9-24A195, dated December 4, 2003.

(1) If neither P/N is installed, no further action is required by this paragraph.

(2) If either P/N is installed, before further flight, inspect the battery to determine if the battery code date is before May 2003, in accordance with the ASB.

(i) If the battery code is dated May 2003 or later, no further action is required by this paragraph.

(ii) If the battery code is dated before May 2003, before further flight: With the exception that a sticker is not required to be installed, modify the battery in accordance with the ASB.

Note 1: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Note 2: Boeing Alert Service Bulletin DC9-24A195, dated December 4, 2003, refers to SAFT Service Bulletin 01-02, Revision 2, dated August 11, 2003, as an additional source of service information for accomplishing the modification.

Parts Installation

(g) As of the effective date of this AD, no person may install on any airplane a SAFT nickel cadmium battery having either P/N 021904-000 (Type 43B034LB03) or P/N 021929-000 (Type 43B034LB02), unless the battery has been modified in accordance with this AD or the battery code is dated May 2003 or later.

Alternative Methods of Compliance (AMOCs)

(h) The Manager, Los Angles Aircraft Certification Office (ACO), FAA, has the authority to approve AMOCs for this AD, if requested in accordance with the procedures found in 14 CFR 39.19.

Material Incorporated by Reference

(i) You must use Boeing Alert Service Bulletin DC9-24A195, dated December 4, 2003, to perform the actions that are required by this AD, unless the AD specifies otherwise. The Director of the Federal Register approves the incorporation by reference of this document in accordance with 5 U.S.C. 552(a) and 1 CFR part 51. To get copies of the service information, go to Boeing Commercial Airplanes, Long Beach Division, 3855 Lakewood Boulevard, Long Beach, California 90846, Attention: Data and Service Management, Dept. C1-L5A (D800-0024). To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 14, 2005.
Kevin M. Mullin,
Acting Manager, Transport Airplane Directorate, Aircraft Certification Service.

[FR Doc. 05-12513 Filed 6-24-05; 8:45 am]

BILLING CODE 4910-13-P